DEPARTMENT OF THE INTERIOR

Fish and Wildlife Service

[FWS-R6-NWRS-2024-N036; FF06R06000-256-FXRS126506ROMC0]

Charles M. Russell Wetland Management District (MT); Draft Comprehensive Conservation Plan

AGENCY: Fish and Wildlife Service, Interior.

ACTION: Notice of availability; request for comments.

SUMMARY: We, the U.S. Fish and Wildlife Service (Service), announce the availability of a draft comprehensive conservation plan (CCP) and associated environmental assessment (EA) for the Charles M. Russell Wetland Management District (District) for review and comment. The District is distinct from the Charles M. Russell (CMR) National Wildlife Refuge (NWR) and this draft CCP and EA will not impact management of that refuge. The draft CCP describes the vision, goals, objectives, and strategies that will guide the long-term management of the District. The draft EA describes the impacts of implementing the objectives and strategies of the CCP on the environment, as well as alternative management objectives and strategies the Service is considering, in compliance with the National Environmental Policy Act. We invite comment from the public and local, State, Tribal, and Federal agencies.

DATES: To ensure consideration, written comments must be received or postmarked on or before February 13, 2025.

ADDRESSES: Accessing Documents: You may obtain electronic copies of the draft CCP, draft EA, and associated documents at https://www.fws.gov/refuge/charles-m-russell-wetland-management-district. Hard copies may be viewed in person during regular business hours, 8 a.m. to 4:30 p.m., Monday through Friday, at the Charles M. Russell Wetland Management District, 333 Airport Road, Lewistown, MT 59457.

Submitting Comments: Please submit comments by only one of the following methods:

• Email: cmr@fws.gov;

• U.S. mail: Cortez Rohr, District Manager, 333 Airport Road, Lewistown, MT 59457; or

• In-Person Drop off: You may drop off comments during regular business hours (address above).

FOR FURTHER INFORMATION CONTACT: Ella Wagener, by telephone at 703-283-2142 or via email at ella_wagener@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The National Wildlife Refuge System Improvement Act of 1997 (Improvement Act; 16 U.S.C. 668dd-668ee), which amended the National Wildlife Refuge System Administration Act of 1966, requires the Service to develop a CCP for each NWR. The purpose in developing a CCP is to provide refuge managers with a long-term plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review this CCP at least every 15 years and revise it as necessary in accordance with the Improvement Act.

Introduction

With this notice, the Service continues the process for developing a CCP for the District. The District currently encompasses four national wildlife refuges (NWRs) and six waterfowl production areas (WPAs) in five Montana counties: Petroleum, Musselshell, Golden Valley, Yellowstone, and Stillwater. Clark's Fork WPA (Carbon County) is managed by the District but is outside the District boundary. There are also five conservation easements in the District. These are the District's current units and easements: War Horse WPA and War Horse NWR and its three units; Lake Mason NWR and its three units; Hailstone WPA and NWR, Grass Lake NWR, Spidel WPA, Tew WPA, Clark's Fork WPA, and James L. Hansen WPA. In addition, there are five Farmers Home Administration conservation easements (Hardy, Kurz, Overturf, Weyer, and Jansen tracts), as well as other leases, flowage easements, and State grazing easements. Additional units or conservation easements added to the District in the future will be managed according to the direction in this CCP and associated EA and will be incorporated into future revisions and amendments.

Pre-planning for this CCP began in 2016 and three public scoping meetings were conducted in February and March 2017 in Winnett, Roundup, and Laurel, Montana. However, the planning process stalled. On June 29, 2022, the Service published a notice of intent in the Federal Register announcing the intent to reinitiate the planning process to develop a CCP and EA for the District (87 FR 38775). The Service received comments from two individuals and three organizations during the new scoping comment period, which closed on July 29, 2022. All comments were shared with the planning team and considered throughout the planning process. Some of the valuable comments focused on public opportunity, wildlife resources, and livestock grazing. Findings from public comments and other information were used to develop the proposed action for the District and to analyze the management alternatives.

Background

Charles M. Russell Wetland Management District

The District is located within the Northern Great Plains in central and southcentral Montana and is bounded on the north by the Missouri River Breaks and on the south by the Greater Yellowstone Ecosystem. While it is part of the Charles M. Russell NWR Complex, the District is distinct from the Charles M. Russell NWR in both location and management direction. The District includes wetlands with a mix of grasses, rushes, and occasional greasewood; areas of Ponderosa pine woodlands; creek bottoms filled with cottonwoods; coulees having a mix of juniper, sagebrush, and deciduous shrubs with grass components; and vast, open, flat and rolling grassland hills mixed with sagebrush in some areas. Seasonal and temporary wetland basins provide critical waterfowl and grassland bird habitat for feeding and nesting. The District also lies on the western edge of the Central Flyway and near the eastern edge of the Pacific Flyway. The core of the District's work is managing wetland habitat to benefit waterfowl, wading birds, and shorebirds.

National Environmental Policy Act Compliance

This CCP is being developed in accordance with the requirements of the National Wildlife Refuge System Administration Act of 1966 (16 U.S.C. 668dd-668ee), as amended by the National Wildlife Refuge System Improvement Act of 1997 (Improvement Act; Pub. L. 105-57); the National Environmental Policy Act of 1969, as amended (NEPA; 42 U.S.C. 4321 et seq.); other appropriate Federal laws and regulations; and the policies and procedures for compliance with those laws and regulations.

Tribal Responsibilities

The Service has unique responsibilities to Tribes, including under the National Historic Preservation Act (54 U.S.C. 306101 et seq.); the American Indian Religious Freedom Act (42 U.S.C. 1996); the Native American Graves Protection and Repatriation Act (25 U.S.C. 3001 et seq.); the Religious Freedom Restoration Act of 1993 (42 U.S.C. 2000bb et seq.); Joint Secretarial Order 3403, Fulfilling the Trust Responsibility to Indian Tribes in the Stewardship of Federal Lands and Waters (Secretaries of Interior and Agriculture; November 15, 2021); Secretarial Order 3206, American Indian Tribal Rights, Federal-Tribal Trust Responsibilities, and the Endangered Species Act (Secretaries of Interior and Agriculture; June 5, 1997); Executive Order 13007, Indian Sacred Sites (61 FR 26771; May 29, 1996); and the Service's Native American Policy. We apply the term “Tribal” or “Tribe(s)” generally to federally recognized Tribes and Alaska Native Tribal entities. We will refer to Native Hawaiian Organizations separately when we intend to include those entities.

The Service will separately consult with Tribes on the proposals set forth in this CCP. We will also ensure that those Tribes wishing to engage directly in the planning process will have the opportunity to do so. As part of this process, we will protect the confidential nature of any consultations and other communications we have with Tribes, to the extent permitted by the Freedom of Information Act and other laws.

Review and Comment

At the end of the review and comment period for the draft CCP, comments will be analyzed by the Service and addressed in the final CCP. All information provided voluntarily by mail, by phone, or at public meetings (e.g., names, addresses, letters of comment, input recorded during meetings) becomes part of the official public record. Before including your address, phone number, email address, or other personal identifying information in your comment, you should be aware that your entire comment—including your personal identifying information—may be made publicly available at any time. While you can ask us in your comment to withhold your personal identifying information from public review, the Service cannot guarantee we will be able to do so.Authority

This notice is published under the authority of the National Wildlife Refuge System Improvement Act of 1997 (16 U.S.C. 668dd).

Matthew Hogan,
Regional Director, Mountain-Prairie Region.

[FR Doc. 2024-31631 Filed 1-13-25; 8:45 am]

BILLING CODE 4333-15-P